DEPARTMENT OF THE INTERIOR

National Park Service

[2253-665]

Notice of Inventory Completion: U.S. Department of the Interior, Bureau of Indian Affairs, Washington, DC, and U.S. Department of the Interior, National Park Service, Mesa Verde National Park, Mesa Verde, CO

AGENCY: National Park Service, Interior.

ACTION: Notice.

Notice is here given in accordance with the Native American Graves Protection and Repatriation Act (NAGPRA), 25 U.S.C. 3003, of the completion of an inventory of human remains and associated funerary objects in the control of the U.S. Department of the Interior, Bureau of Indian Affairs, Washington, DC, and in the physical custody of the U.S. Department of the Interior, National Park Service, Mesa Verde National Park, Mesa Verde, CO. The human remains and associated funerary objects were removed from sites on the Ute Mountain Ute Reservation, CO.

This notice is published as part of the National Park Service's administrative responsibilities under NAGPRA, 25 U.S.C. 3003(d)(3). The determinations in this notice are the sole responsibility of the museum, institution, or Federal agency that has control of the Native American human remains and associated funerary objects. The National Park Service National NAGPRA Program is not responsible for the determinations in this notice.

A detailed assessment of the human remains was made by Mesa Verde National Park and Bureau of Indian Affairs professional staff in consultation with representatives of the Hopi Tribe of Arizona; Navajo Nation, Arizona, New Mexico & Utah; Ohkay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Southern Ute Indian Tribe of the Southern Ute Reservation, Colorado; Ute Mountain Tribe of the Ute Mountain Reservation, Colorado, New Mexico & Utah; Ysleta Del Sur Pueblo of Texas; and Zuni Tribe of the Zuni Reservation, New Mexico (hereinafter referred to as “The Tribes”).

In 1927, human remains representing a minimum of one individual were removed by the National Park Service from Hoot Owl House (5MV1012), a site located on the Ute Mountain Ute Reservation, CO, and outside the boundaries of the Mesa Verde National Park. No known individual was identified. No associated funerary objects are present.

Based on architectural features (6 rooms, 10 grinding bins, a tower, and toeholds), archeological context, dendrochronology, and a physical anthropology examination, the site (5MV1012) and human remains are dated to the Pueblo I (A.D. 700-900) and Pueblo III (A.D. 1100-1300) periods.

In 1927, human remains representing a minimum of one individual were removed from Bone Awl House, a site located on the Ute Mountain Ute Reservation, CO, and outside the boundaries of the Mesa Verde National Park, during a National Park Service field collection project. No known individual was identified. The 24 associated funerary objects are unfired sherds.

Based on architectural features (cliff dwelling), archeological context, dendrochronology, and a physical anthropology examination, the Bone Awl House site, human remains, and the associated funerary objects are dated to the Pueblo III period (A.D. 1100-1300).

In 1959, human remains representing a minimum of one individual were removed by the National Park Service from Pulpit House (5MV1237), a site located on the Ute Mountain Ute Reservation, CO, and outside the boundaries of the Mesa Verde National Park. No known individual was identified. No associated funerary objects are present.

Based on architectural features (8 rooms, a rubble mound, a possible kiva, and terraces), archeological context, a physical anthropology examination, and ceramic analysis, the site (5MV1237) and human remains are dated to the Pueblo III period (A.D. 1100-1300).

As outlined in a published Notice of Inventory Completion (64 FR 46936-46949, August 27, 1999), geographical, kinship, biological, archeological, anthropological, linguistic, folklore, oral tradition, historical, and expert opinion evidence was used by Mesa Verde National Park to determine cultural affiliation for human remains and associated funerary objects removed from Mesa Verde National Park, which borders the Ute Mountain Ute Reservation. Officials of the Bureau of Indian Affairs and Mesa Verde National Park considered this information, and also considered the historical and geographical evidence for these human remains and associated funerary objects, and reasonably determined that a broader cultural affiliation exists. Therefore, upon examination of the historical and geographical information, officials of the Bureau of Indian Affairs and Mesa Verde National Park have determined that the Southern Ute Indian Tribe and the Ute Mountain Ute Indian Tribe share a historic and continuing cultural affiliation with the lands on the Ute Mountain Ute Reservation.

Officials of the Bureau of Indian Affairs and Mesa Verde National Park have determined, pursuant to 25 U.S.C. 3001(9), that the human remains described above represent the physical remains of three individuals of Native American ancestry. Officials of the Bureau of Indian Affairs and Mesa Verde National Park have also determined, pursuant to 25 U.S.C. 3001(3)(A), that the 24 associated funerary objects described above are reasonably believed to have been placed with or near individual human remains at the time of death or later as part of the death rite or ceremony. Lastly, the officials of the Bureau of Indian Affairs and Mesa Verde National Park have determined, pursuant to 25 U.S.C. 3001(2), that there is a relationship of shared group identity that can be reasonably traced between the Native American human remains and associated funerary objects and The Tribes.

Representatives of any other Indian Tribe that believes itself to be culturally affiliated with the human remains and associated funerary objects should contact Cliff Spencer, Superintendent, Mesa Verde National Park, PO Box 8, Mesa Verde, CO 81330, telephone (970) 529-4600, before April 14, 2011. Repatriation of the human remains and associated funerary objects to The Tribes may proceed after that date if no additional claimants come forward.

The Bureau of Indian Affairs and Mesa Verde National Monument are responsible for notifying The Tribes this notice has been published.

Dated: March 9, 2011.
Sherry Hutt,
Manager, National NAGPRA Program.

[FR Doc. 2011-5860 Filed 3-14-11; 8:45 am]

BILLING CODE 4312-50-P